DEPARTMENT OF VETERANS AFFAIRS

[OMB Control No. 2900-0554]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approve collection, and allow 60 days for public comment in response to the notice. This notice solicits comments on the information needed to determine applicants' eligibility to receive a grant and/or per diem for programs to assist the homeless.

DATES: Written comments and recommendations on the proposed collection of information should be received on or before July 29, 2003.

ADDRESSES: Submit written comments on the collection of information to Ann Bickoff, Veterans Health Administration (193B1), Department of Veterans Affairs, 810 Vermont Avenue, NW., Washington, DC 20420. Please refer to “OMB Control No. 2900-0554” in any correspondence.

FOR FURTHER INFORMATION CONTACT: Ann Bickoff at (202) 273-8310.

SUPPLEMENTARY INFORMATION: Under the PRA of 1995 (Pub. L. 104-13; 44 U.S.C., 3501-3520), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. Homeless Providers Grant and Per Diem Program, Capital Grant Application, VA Form 10-0361-CG.

b. Homeless Providers Grant and Per Diem Program, Life Safety Code Application, VA Form 10-0361-LSC.

c. Homeless Providers Grant and Per Diem Program, Per Diem Only Application, VA Form 10-0361-PDO.

d. Homeless Providers Grant and Per Diem Program, Special Needs Application, VA Form 10-0361-SN.

e. Compliance Reports for Per Diem and Special Needs Grants. No form needed. May be reported to VA in standard business narrative.

f. Homeless Providers Grant and Per Diem Program, Technical Assistance Application, VA Form 10-0361-TA.

g. Compliance Reports for Technical Assistance Grants. No form needed. May be reported to VA in standard business narrative.

OMB Control Number: 2900-0554.

Type of Review: Extension of a currently approved collection.

Abstract: The information collected on VA Form 10-0361 series, Homeless Providers Grant and Per Diem Program, will be used to determine applicants eligibility to receive a grant/or per diem payments which provide supportive housing/services to assist homeless veterans transition to independent living. The collected information will be used to apply the specific criteria to rate and rank each application; and to obtain information necessary to ensure that Federal funds are awarded to applicants who are financially stable and who will conduct program for which a grant and/or per diem award was made. If this data were not collected, VA would not be able to implement the provisions of Pub. L. 107-95.

Affected Public: Not-for-profit institutions—State, Local or Tribal Governments.

Estimated Annual Burden: 14,340 hours.

a. Homeless Providers Grant and Per Diem Program, Capital Grant Application, VA Form 10-0361-CG—3,500 hours.

b. Homeless Providers Grant and Per Diem Program, Life Safety Code Application, VA Form 10-0361-LSC—2,000 hours.

c. Homeless Providers Grant and Per Diem Program, Per Diem Only Application, VA Form 10-0361-PDO—3,000 hours.

d. Homeless Providers Grant and Per Diem Program, Special Needs Application, VA Form 10-0361-SN—4,000 hours.

e. Compliance Reports for Per Diem and Special Needs Grants—1,500 hours.

f. Homeless Providers Grant and Per Diem Program, Technical Assistance Application, VA Form 10-0361-TA—250 hours.

g. Compliance Reports for Technical Assistance Grants—90 hours.

Estimated Average Burden per Respondent

a. Homeless Providers Grant and Per Diem Program, Capital Grant Application, VA Form 10-0361-CG—35 hours.

b. Homeless Providers Grant and Per Diem Program, Life Safety Code Application, VA Form 10-0361-LSC—10 hours.

c. Homeless Providers Grant and Per Diem Program, Per Diem Only Application, VA Form 10-0361-PDO—20 hours.

d. Homeless Providers Grant and Per Diem Program, Special Needs Application, VA Form 10-0361-SN—20 hours.

e. Compliance Reports for Per Diem and Special Needs Grants—5 hours.

f. Homeless Providers Grant and Per Diem Program, Technical Assistance Application, VA Form 10-0361-TA—10 hours.

g. Compliance Reports for Technical Assistance Grants—2.25 hours.

Frequency of Response: On occasion.

Estimated Number of Respondents: 1,015.

a. Homeless Providers Grant and Per Diem Program, Capital Grant Application, VA Form 10-0361-CG—100.

b. Homeless Providers Grant and Per Diem Program, Life Safety Code Application, VA Form 10-0361-LSC—200.

c. Homeless Providers Grant and Per Diem Program, Per Diem Only Application, VA Form 10-0361-PDO—150.

d. Homeless Providers Grant and Per Diem Program, Special Needs Application, VA Form 10-0361-SN—200.

e. Compliance Reports for Per Diem and Special Needs Grants—300.

f. Homeless Providers Grant and Per Diem Program, Technical Assistance Application, VA Form 10-0361-TA—25.

g. Compliance Reports for Technical Assistance Grants—40.

Dated: May 16, 2003.
By direction of the Secretary.
Jacqueline Parks,
Specialist, Records Management Service.

[FR Doc. 03-13550 Filed 5-29-03; 8:45 am]

BILLING CODE 8320-01-P